DEPARTMENT OF THE TREASURY

Office of Foreign Assets Control

Sanctions Actions Pursuant to Executive Orders 13722, 13382, and 13687

AGENCY: Office of Foreign Assets Control, Treasury.

ACTION: Notice.

SUMMARY: The Department of the Treasury's Office of Foreign Assets Control (OFAC) is publishing the names of one or more persons whose property and interests in property are blocked pursuant to Executive Orders (E.O.s) 13722, 13382, and 13687.

DATES: See SUPPLEMENTARY INFORMATION section for effective date(s).

FOR FURTHER INFORMATION CONTACT:

OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410 (not toll free numbers).

SUPPLEMENTARY INFORMATION:

Electronic Availability

The Specially Designated Nationals and Blocked Persons List and additional information concerning OFAC sanctions programs are available on OFAC's Web site (www.treasury.gov/ofac).

Notice of OFAC Action(s)

On March 31, 2017, OFAC's Acting Director determined that the property and interests in property of the following persons are blocked:

Individuals

1. CHOE, Chun Yong (a.k.a. CH'OE, Ch'un-yo'ng), Moscow, Russia; nationality Korea, North; Gender Male; Passport 654410078 (Korea, North); Ilsim International Bank representative (individual) [DPRK3] (Linked To: ILSIM INTERNATIONAL BANK).

Designated pursuant to subsection 2(a)(viii) of E.O. 13722, “Blocking Property of the Government of North Korea and the Workers' Party of Korea, and Prohibiting Certain Transactions With Respect to North Korea,” for having acted or purported to act for or on behalf of, directly or indirectly, ILSIM INTERNATIONAL BANK, a person whose property and interests in property are blocked pursuant to E.O. 13722.

2. KIM, Nam Ung, Moscow, Russia; nationality Korea, North; Passport 654110043 (Korea, North); Ilsim International Bank representative (individual) [DPRK3] (Linked To: ILSIM INTERNATIONAL BANK).

Designated pursuant to subsection 2(a)(viii) of E.O. 13722 for having acted or purported to act for or on behalf of, directly or indirectly, ILSIM INTERNATIONAL BANK, a person whose property and interests in property are blocked pursuant to E.O. 13722.

3. KIM, Mun Chol (a.k.a. KIM, Mun-ch'o'l), Dandong, China; DOB 25 Mar 1957; nationality Korea, North; Korea United Development Bank representative (individual) [DPRK3] (Linked To: KOREA UNITED DEVELOPMENT BANK).

Designated pursuant to subsection 2(a)(vii) of E.O. 13722 for having materially assisted, sponsored, or provided financial, material, or technological support for, or goods or services to or in support of, KOREA UNITED DEVELOPMENT BANK, a person whose property and interests in property are blocked pursuant to E.O. 13722. Also designated pursuant to subsection 2(a)(viii) of E.O. 13722 for having acted or purported to act for or on behalf of, directly or indirectly, KOREA UNITED DEVELOPMENT BANK, a person whose property and interests in property are blocked pursuant to E.O. 13722.

4. KIM, Tong-ho, Vietnam; DOB 18 Aug 1969; nationality Korea, North; Gender Male; Passport 745310111 (Korea, North); Tanchon Commercial Bank representative (individual) [DPRK3].

Designated pursuant to subsection 2(a)(i) of E.O. 13722 for operating in the financial services industry in the North Korean economy, an industry in the North Korean economy determined by the Secretary of the Treasury, in consultation with the Secretary of State, to be subject to that subsection.

5. KANG, Chol Su, Linjiang, China; DOB 13 Feb 1969; Passport 472234895 (Korea, North); Korea Ryonbong General Corporation Official (individual) [NPWMD] (Linked To: KOREA RYONBONG GENERAL CORPORATION).

Designated pursuant to subsection 1(a)(iv) of E.O. 13382, “Blocking Property of Weapons of Mass Destruction Proliferators and Their Supporters,” for acting or purporting to act for or on behalf of, directly or indirectly, KOREA RYONBONG GENERAL CORPORATION, a person whose property and interests in property are blocked pursuant to E.O. 13382.

6. PAK, Il-Kyu (a.k.a. PAK, Il-Gyu), Shenyang, China; Gender Male; Passport 563120235; Korea Ryonbong General Corporation Official (individual) [NPWMD] (Linked To: KOREA PUGANG TRADING CORPORATION).

Designated pursuant to subsection 1(a)(iii) of E.O. 13382 for having provided, or attempted to provide, financial, material, technological or other support for, or goods or services in support of, KOREA PUGANG TRADING CORPORATION, a person whose property and interests in property are blocked pursuant to E.O. 13382.

7. JANG, Sung Nam, Dalian, China; DOB 14 Jul 1970; Gender Male; Passport 563120368 (Korea, North) issued 22 Mar 2013 expires 22 Mar 2018; Chief of the Tangun Trading Corporation branch in Dalian, China (individual) [NPWMD] (Linked To: KOREA TANGUN TRADING CORPORATION).

Designated pursuant to subsection 1(a)(iv) of E.O. 13382 for acting or purporting to act for or on behalf of, directly or indirectly, KOREA TANGUN TRADING CORPORATION, a person whose property and interests in property are blocked pursuant to E.O. 13382.

8. JO, Chol Song (a.k.a. CHO, Ch'o'l-so'ng), Dandong, China; DOB 25 Sep 1984; nationality Korea, North; Gender Male; Passport 654320502 expires 16 Sep 2019; Korea Kwangson Banking Corporation Deputy Representative (individual) [NPWMD] (Linked To: KOREA KWANGSON BANKING CORP).

Designated pursuant to subsection 1(a)(iv) of E.O. 13382 for acting or purporting to act for or on behalf of, directly or indirectly, KOREA KWANGSON BANKING CORP, a person whose property and interests in property are blocked pursuant to E.O. 13382.

9. RI, Su Yong, Cuba; DOB 25 Jun 1968; nationality Korea, North; Gender Male; Passport 654310175; Korea Ryonbong General Corporation Official (individual) [NPWMD] (Linked To: KOREA RYONBONG GENERAL CORPORATION).

Designated pursuant to subsection 1(a)(iv) of E.O. 13382 for acting or purporting to act for or on behalf of, directly or indirectly, KOREA RYONBONG GENERAL CORPORATION, a person whose property and interests in property are blocked pursuant to E.O. 13382.

10. HAN, Jang Su (a.k.a. HAN, Chang-su), Moscow, Russia; DOB 08 Nov 1969; POB Pyongyang; nationality Korea, North; Gender Male; Passport 745420176 expires 19 Oct 2020; Foreign Trade Bank chief representative (individual) [NPWMD].

Designated pursuant to subsection 1(a)(iv) of E.O. 13382 for acting or purporting to act for or on behalf of, directly or indirectly, the FOREIGN TRADE BANK, a person whose property and interests in property are blocked pursuant to E.O. 13382.

11. KIM, Yong Su (a.k.a. KIM, Yo'ng-su), Vietnam; DOB 09 Feb 1969; nationality Korea, North; Gender Male; Passport 654435458 expires 26 Nov 2019; Chief Representative of the Marine Transport Office in Vietnam (individual) [DPRK3].

Designated pursuant to subsection 1(a)(ii) of E.O. 13687, “Imposing Additional Sanctions With Respect to North Korea,” for being an official of the Government of North Korea.

Entity

1. PAEKSOL TRADING CORPORATION (a.k.a. BAEKSOL TRADING; a.k.a. BAEKSUL TRADING; a.k.a. KOREA PAEK SOL TRADING; a.k.a. PAEK SOL TRADING CORPORATION; a.k.a. PAEKSO'L CORPORATION; a.k.a. PAEKSO'L TRADING CORPORATION), Korea, North [DPRK3].

Designated pursuant to subsection 2(a)(ii) of E.O. 13722 for having sold, supplied, transferred, or purchased, directly or indirectly, to or from North Korea or any person acting for or on behalf of the Government of North Korea or the Workers' Party of Korea, metal, graphite, coal, or software, where any revenue or goods received may benefit the Government of North Korea or the Workers' Party of Korea, including North Korea's nuclear or ballistic missile programs.

Andrea M. Gacki,
Acting Director, Office of Foreign Assets Control.

[FR Doc. 2017-07040 Filed 4-7-17; 8:45 am]

BILLING CODE 4810-AL-P